ENVIRONMENTAL PROTECTION AGENCY

[EPA-HQ-OECA-2013-0321; FRL—9906-84-OEI]

Information Collection Request Submitted to OMB for Review and Approval; Comment Request; NSPS for Sewage Sludge Incineration Units (Renewal)

AGENCY: Environmental Protection Agency (EPA).

ACTION: Notice.

SUMMARY: The Environmental Protection Agency has submitted an information collection request (ICR), “NSPS for Sewage Sludge Incineration Units (40 CFR Part 60, Subpart LLLL) (Renewal)” (EPA ICR No. 2369.03, OMB Control No. 2060-0658), to the Office of Management and Budget (OMB) for review and approval in accordance with the Paperwork Reduction Act (44 U.S.C. 3501 et seq). This is a proposed extension of the ICR, which is currently approved through April 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 26, 2014.

ADDRESSES: Submit your comments, referencing Docket ID Number EPA-HQ-OECA-2013-0321, to: (1) EPA online, using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The Standards of Performance for New Stationary Sources: Sewage Sludge Incineration (SSI) Units Subpart LLLL, fulfill the requirements of sections 111 and 129 of the Clean Air Act (CAA), which require EPA to promulgate New Source Performance Standard (NSPS) for solid waste incineration units. The information collection activities required by the NSPS include: siting requirements, operator training and qualification requirements, testing, monitoring and reporting requirements, one-time and periodic reports, and the maintenance of records. These activities will enable the Designated Administrator to determine initial compliance with the emission limits for the regulated pollutants, monitor compliance with operating parameters, and ensure that facilities conduct the proper planning and operator training.

Form Numbers: None.

Respondents/affected entities: Owners or operators of SSI units.

Respondent's obligation to respond: Mandatory (40 CFR part 60, subpart LLLL).

Estimated number of respondents: 2 (total).

Frequency of response: Initially, semiannually, and annually

Total estimated burden: 798 hours (per year). “Burden” is defined at 5 CFR 1320.3(b).

Total estimated cost: $447,624 (per year), includes $369,556 annualized total capital/startup or operation & maintenance costs.

Changes in the Estimates: There is an increase in respondent and Agency burden in this ICR compared to the previous ICR. The increase is due to an adjustment in the estimated number of sources. The previous ICR estimated two new units subject to the standard during the initial three-year compliance period. However, recent research indicates there are still no units subject to the standard at this time. Those same two new units are expected to become subject during three-year period of this ICR, and another unit is expected to be modified and therefore also subject to the NSPS. This change in estimate also results in an increase in total capital and O&M costs.

Richard T. Westlund,
Acting Director, Collection Strategies Division.

[FR Doc. 2014-03769 Filed 2-21-14; 8:45 am]

BILLING CODE 6560-50-P